DEPARTMENT OF AGRICULTURE

Federal Crop Insurance Corporation

7 CFR Part 457

[Docket ID FCIC-24-0005]

RIN 0563-AC86

Flax Revenue and Expanded Unit Options for Crop Insurance; Correction

AGENCY: Federal Crop Insurance Corporation, U.S. Department of Agriculture (USDA).

ACTION: Correcting amendment.

SUMMARY: On November 27, 2024, the Federal Crop Insurance Corporation revised the Area Risk Protection Insurance Regulations and Common Crop Insurance Policy, Basic Provisions. In reviewing the changes made, FCIC found provisions that were inadvertently omitted and provisions that should have been omitted but were not. This document makes the corrections.

DATES: Effective December 27, 2024.

FOR FURTHER INFORMATION CONTACT: Chandra Place; telephone (816) 926-3875; email chandra.place@usda.gov. Persons with disabilities who require alternative means of communication should contact the USDA Target Center at (202) 720-2600 or 844-433-2774.

SUPPLEMENTARY INFORMATION:

Background

The Common Crop Insurance Regulations in 7 CFR part 457 were revised by a final rule with request for comments published in the Federal Register on November 27, 2024 (89 FR 93463-93470). Changes were made in that rule to regulations to allow revenue coverage for flax under the Small Grain Crop Insurance Provisions (7 CFR 457.101), to combine written agreement deadlines in the Dry Bean Crop Insurance Provisions (7 CFR 457.150) to match other insurance policies, to expand the availability of enterprise and optional units for some specialty and perennial crops, and to make clarifications and corrections to the Area Risk Protection Insurance Policy, Basic Provisions (7 CFR part 407) and Common Crop Insurance Policy, Basic Provisions (7 CFR 457.8). Since the publication of the rule, FCIC has identified provisions that were inadvertently omitted and provisions that should have been omitted but were not that need correction. This document makes the corrections in the following Provisions:

• Small Grains Crop Insurance Provisions (7 CFR 457.101); and

• Green Pea Crop Insurance Provisions (7 CFR 457.137).

List of Subjects in 7 CFR Part 457

Acreage allotments, Crop insurance, Reporting and recordkeeping requirements.

Accordingly, 7 CFR part 457 is corrected by making the following amendments:

PART 457—COMMON CROP INSURANCE REGULATIONS

1. The authority citation for part 457 continues to read as follows:

Authority: 7 U.S.C. 1506(l), 1506(o).

2. In § 457.101, in the “Small Grains Crop Provisions”, in section 11, add paragraphs (c)(1)(i)(A) through (D) to read as follows:

§ 457.101 Small grain crop insurance provisions.

* * * * *

11. Settlement of Claim

* * * * *

(c) * * *

(1) * * *

(i) * * *:

(A) Which is abandoned;

(B) Put to another use without our consent;

(C) Damaged solely by uninsured causes; or

(D) For which you fail to provide records of production that are acceptable to us;

* * * * *

3. In § 457.137, revise the introductory text to read as follows:

§ 457.137 Green pea crop insurance provisions.

The Green Pea Crop Insurance Provisions for the 2025 and succeeding crop years are as follows:

United States Department of Agriculture

Federal Crop Insurance Corporation

Green Pea Crop Provisions

In return for your payment of premium and administrative fee for the coverage, these Green Pea Crop Provisions will be attached to and made part of the Common Crop Insurance Policy, Basic Provisions (Basic Provisions) subject to the terms and conditions in your policy.

* * * * *

Marcia Bunger,
Manager, Federal Crop Insurance Corporation.

[FR Doc. 2024-30548 Filed 12-26-24; 8:45 am]

BILLING CODE 3410-08-P